DEPARTMENT OF ENERGY

Federal Energy Regulatory Commission

Combined Notice of Filings #1

Take notice that the Commission received the following exempt wholesale generator filings:

Docket Numbers: EG21-259-000.

Applicants: Mililani I Solar, LLC.

Description: Notice of Self-Certification of Exempt Wholesale Generator Status of Mililani I Solar, LLC.

Filed Date: 9/29/21.

Accession Number: 20210929-5010.

Comment Date: 5 p.m. ET 10/20/21.

Docket Numbers: EG21-260-000.

Applicants: Lanikuhana Solar, LLC.

Description: Self-Certification of Exempt Wholesale Generator Status of Lanikuhana Solar, LLC.

Filed Date: 9/29/21.

Accession Number: 20210929-5018.

Comment Date: 5 p.m. ET 10/20/21.

Docket Numbers: EG21-261-000.

Applicants: Ventress Solar Farm 1, LLC.

Description: Notice of Self-Certification of Exempt Wholesale Generator Status of Ventress Solar Farm 1, LLC.

Filed Date: 9/29/21.

Accession Number: 20210929-5053.

Comment Date: 5 p.m. ET 10/20/21.

Take notice that the Commission received the following electric rate filings:

Docket Numbers: ER10-2034-008.

Applicants: Duke Energy Indiana, Inc.

Description: Notice of Change in Status of Duke Energy Indiana, LLC.

Filed Date: 9/28/21.

Accession Number: 20210928-5155.

Comment Date: 5 p.m. ET 10/19/21.

Docket Numbers: ER21-2952-000.

Applicants: Public Service Company of New Mexico.

Description: § 205(d) Rate Filing: PNM, Pattern NM Wind, Red Cloud Wind, Clines Corners Wind to be effective 11/29/2021.

Filed Date: 9/28/21.

Accession Number: 20210928-5149.

Comment Date: 5 p.m. ET 10/19/21.

Docket Numbers: ER21-2953-000.

Applicants: PacifiCorp.

Description: § 205(d) Rate Filing: UMPA Agmt Re SS of Ancillary Serv Sched 5 and/or 6 to be effective 9/27/2021.

Filed Date: 9/28/21.

Accession Number: 20210928-5152.

Comment Date: 5 p.m. ET 10/19/21.

Docket Numbers: ER21-2954-000.

Applicants: Midcontinent Independent System Operator, Inc.

Description: § 205(d) Rate Filing: 2021-09-29_SA 3700 MEC-Heartland Divide Wind II FSA (J583) to be effective 11/29/2021.

Filed Date: 9/29/21.

Accession Number: 20210929-5028.

Comment Date: 5 p.m. ET 10/20/21.

Docket Numbers: ER21-2955-000.

Applicants: Midcontinent Independent System Operator, Inc.

Description: § 205(d) Rate Filing: 2021-09-29_SA 3701 MEC-Walleye Wind FSA (J569) to be effective 11/29/2021.

Filed Date: 9/29/21.

Accession Number: 20210929-5030.

Comment Date: 5 p.m. ET 10/20/21.

Docket Numbers: ER21-2956-000.

Applicants: Midcontinent Independent System Operator, Inc.

Description: § 205(d) Rate Filing: 2021-09-29_SA 3702 MEC-Emmons-Logan Wind FSA (J302 J503) to be effective 11/29/2021.

Filed Date: 9/29/21.

Accession Number: 20210929-5039.

Comment Date: 5 p.m. ET 10/20/21.

Docket Numbers: ER21-2957-000.

Applicants: Avista Corporation.

Description: § 205(d) Rate Filing: Avista Corp RS T1188, Interim Interconnected Systems Agmt BPA to be effective 10/1/2021.

Filed Date: 9/29/21.

Accession Number: 20210929-5052.

Comment Date: 5 p.m. ET 10/20/21.

Docket Numbers: ER21-2958-000.

Applicants: PJM Interconnection, L.L.C.

Description: § 205(d) Rate Filing: Revisions to OA and RAA re: Quarterly Membership Lists to be effective 6/22/2021.

Filed Date: 9/29/21.

Accession Number: 20210929-5065.

Comment Date: 5 p.m. ET 10/20/21.

Docket Numbers: ER21-2959-000.

Applicants: PJM Interconnection, L.L.C.

Description: § 205(d) Rate Filing: Amendment to ISA, Service Agreement No. 3395; Queue No. R33 to be effective 9/6/2012.

Filed Date: 9/29/21.

Accession Number: 20210929-5072.

Comment Date: 5 p.m. ET 10/20/21.

Docket Numbers: ER21-2960-000.

Applicants: Avista Corporation.

Description: Tariff Amendment: Avista Corp Cancellation of RS 184 BPA Exchange Agreement to be effective 10/1/2021.

Filed Date: 9/29/21.

Accession Number: 20210929-5075.

Comment Date: 5 p.m. ET 10/20/21.

Docket Numbers: ER21-2961-000.

Applicants: Public Service Company of Colorado.

Description: § 205(d) Rate Filing: 2021-09-29 LPL Hold Harmless to be effective 10/1/2021.

Filed Date: 9/29/21.

Accession Number: 20210929-5080.

Comment Date: 5 p.m. ET 10/20/21.

Docket Numbers: ER21-2962-000.

Applicants: PacifiCorp.

Description: Notice of Cancellation of Service Agreement Nos. 307 and 436 with Arizona Public Service Company of PacifiCorp.

Filed Date: 9/29/21.

Accession Number: 20210929-5086.

Comment Date: 5 p.m. ET 10/20/21.

Docket Numbers: ER21-2963-000.

Applicants: CLN Energy LLC.

Description: Baseline eTariff Filing: Market-Based Rate Tariff Application to be effective 10/1/2021.

Filed Date: 9/29/21.

Accession Number: 20210929-5092.

Comment Date: 5 p.m. ET 10/20/21.

Docket Numbers: ER21-2964-000.

Applicants: Sterlington Power LLC.

Description: Tariff Amendment: Notice of Cancellation of Market Based Rate Tariff to be effective 9/30/2021.

Filed Date: 9/29/21.

Accession Number: 20210929-5093.

Comment Date: 5 p.m. ET 10/20/21.

Docket Numbers: ER21-2965-000.

Applicants: Atlantic City Electric Company, Delmarva Power & Light Company, PECO Energy Company, PJM Interconnection, L.L.C.

Description: § 205(d) Rate Filing: Atlantic City Electric Company submits tariff filing per 35.13(a)(2)(iii: ACE, Delmarva and PECO Revisions to OATT, Atts. H-1A, H-3D, and H-7A to be effective 1/1/2022.

Filed Date: 9/29/21.

Accession Number: 20210929-5096.

Comment Date: 5 p.m. ET 10/20/21.

Docket Numbers: ER21-2965-001.

Applicants: Atlantic City Electric Company, Delmarva Power & Light Company, PECO Energy Company, PJM Interconnection, L.L.C.

Description: Tariff Amendment: Atlantic City Electric Company submits tariff filing per 35.17(b): Amendment to ACE, Delmarva and PECO Revisions to Atts. H-1A, H-3D, and H-7A to be effective 1/1/2022.

Filed Date: 9/29/21.

Accession Number: 20210929-5103.

Comment Date: 5 p.m. ET 10/20/21.

Docket Numbers: ER21-2966-000.

Applicants: Illinois Power Generating Company, Bracewell LLP.

Description: Baseline eTariff Filing: Illinois Power Generating Company submits tariff filing per 35.1: Filing of Limited Use Agreement to be effective 11/29/2021.

Filed Date: 9/29/21.

Accession Number: 20210929-5100.

Comment Date: 5 p.m. ET 10/20/21.

Docket Numbers: ER21-2967-000.

Applicants: Strategic Energy Capital Fund, LP.

Description: Baseline eTariff Filing: Application for Market-Based Rate Authorization.

Filed Date: 9/29/21.

Accession Number: 20210929-5111.

Comment Date: 5 p.m. ET 10/20/21.

Docket Numbers: ER21-2968-000.

Applicants: Upper Michigan Energy Resources Corporation.

Description: § 205(d) Rate Filing: Filing of Reactive Supply Service Rate Schedule FERC No. 1 to be effective 9/30/2021.

Filed Date: 9/29/21.

Accession Number: 20210929-5115.

Comment Date: 5 p.m. ET 10/20/21.

Docket Numbers: ER21-2969-000.

Applicants: Avista Corporation.

Description: § 205(d) Rate Filing: Avista Corp LTF PTP Agreement T-1189 to be effective 10/1/2021.

Filed Date: 9/29/21.

Accession Number: 20210929-5122.

Comment Date: 5 p.m. ET 10/20/21.

Docket Numbers: ER21-2970-000.

Applicants: Peninsula Power, LLC.

Description: Tariff Amendment: Notice of Cancellation of Market Based Rate Tariff to be effective 9/30/2021.

Filed Date: 9/29/21.

Accession Number: 20210929-5136.

Comment Date: 5 p.m. ET 10/20/21.

Take notice that the Commission received the following electric reliability filings:

Docket Numbers: RR21-9-000.

Applicants: North American Electric Reliability Corporation.

Description: Amendment to August 24, 2021 request of NERC for acceptance of 2022 Business Plans and Budgets of NERC and Regional Entities and for Approval of Proposed Assessments to Fund Budgets under RR21-9.

Filed Date: 9/29/21.

Accession Number: 20210929-5105.

Comment Date: 5 p.m. ET 10/13/21.

Docket Numbers: RR21-10-000.

Applicants: North American Electric Reliability Corporation.

Description: Petition of the North American Electric Reliability Corporation and the Regional Entities for Approval of Revisions to the NERC Rules of Procedure.

Filed Date: 9/29/21.

Accession Number: 20210929-5133.

Comment Date: 5 p.m. ET 10/20/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2021.
Debbie-Anne A. Reese,
Deputy Secretary.

[FR Doc. 2021-21702 Filed 10-4-21; 8:45 am]

BILLING CODE 6717-01-P